DEPARTMENT OF HEALTH AND HUMAN SERVICES

Health Resources and Services Administration

Medical Student Education Program; Notice of Deviation to Maximum Competition Requirements

AGENCY: Health Resources and Services Administration (HRSA), Department of Health and Human Services (HHS).

ACTION: Notice of deviation to maximum competition requirements.

SUMMARY: HRSA is requesting a deviation from competition requirements in order to fund additional applications received in fiscal year 2019 under HRSA-19-101, Medical Student Education (MSE) Program, and to fund supplements to current award recipients. In fiscal year 2020, Congress provided $50,000,000 to fund the MSE program. The report language accompanying the appropriation directed HRSA to provide up to $35,000,000 to fund additional applications received from the MSE program in fiscal year 2019. Of the remaining amount, HRSA was directed to make supplementary grant awards to entities funded in fiscal year 2019. HRSA proposes to fund each of the five unfunded applicants $7,000,000 over the four-year project period (July 1, 2020 through June 30, 2024), and to provide $2,827,679 in upfront one year supplements to each of the five currently funded programs.

FOR FURTHER INFORMATION CONTACT: Cynthia Harne, Chief, Medical Training and Geriatrics Branch, Division of Medicine and Dentistry, Bureau of Health Workforce, HRSA, 5600 Fishers Lane, 11N110, Rockville, Maryland 20857, Phone: (301) 443-7661, Email: charne@hrsa.gov.

SUPPLEMENTARY INFORMATION:

Intended recipients of the awards | Amount of non-competitive awards
Oklahoma State University | $2,827,679
University of South Alabama | 2,827,679
University of Missouri System | 2,827,679
University of Oklahoma | 2,827,679
University of Arkansas System | 2,827,679
University of Missouri System | 7,000,000
University of Utah | 7,000,000
University of Alabama at Birmingham | 7,000,000
University of Mississippi Medical Center | 7,000,000
Trustees of Indiana University | 7,000,000

Period of Supplemental Funding: July 1, 2020 to June 30, 2021.

CFDA Number: 93.680.

Authority: Division A of the Further Consolidated Appropriations Act, 2020, Departments of Labor, HHS, and Education, and Related Agencies Appropriations Act, 2020 (Pub. L. 116-94).

Justification: The funds will allow five additional institutions in the top quintile of states with a projected primary care provider shortage in 2025 to expand or support graduate education for medical students preparing to become physicians. It will also allow the five programs funded in fiscal year 2019 to receive supplements to support the development of medical school curricula, clinical training site partnerships, and faculty training programs, with the goal of educating medical students who are likely to choose career paths in primary care, especially for tribal communities, rural communities, and/or medically underserved communities.

Thomas J. Engels,
Administrator.

[FR Doc. 2020-08204 Filed 4-17-20; 8:45 am]

BILLING CODE 4165-15-P